DEPARTMENT OF STATE

[Public Notice 3958]

Shipping Coordinating Committee; Notice of Meeting

The Shipping Coordinating Committee will conduct an open meeting at 9:30 a.m. on Friday, May 3, 2002, in Room 2415, at U.S. Coast Guard Headquarters, 2100 2nd Street, SW., Washington, DC, 20593-0001. The purpose of this meeting will be to finalize preparations for the 75th Session of the Maritime Safety Committee, and associated bodies of the International Maritime Organization (IMO), which is scheduled for May 15-24, 2002, at IMO Headquarters in London. At this meeting, papers received and the draft U.S. positions will be discussed.

Among other things, the items of particular interest are:

—Adoption of amendments to the Convention for the Safety of Life at Sea (SOLAS)

—Large passenger ship safety

—Bulk carrier safety

—Piracy and armed robbery against ships

—Prevention and suppression of acts of terrorism against shipping

—Reports of eight subcommittees—Training and watchkeeping, Stability, load lines and fishing vessel safety, Radiocommunications and search and rescue, Fire protection, Safety of navigation, Flag State implementation and Ship design and equipment and Dangerous goods, solid cargoes and containers.

Members of the public may attend this meeting up to the seating capacity of the room. Interested persons may seek information by writing to Mr. Joseph J. Angelo, Commandant (G-MS), U.S. Coast Guard Headquarters, 2100 2nd Street, SW., Room 1218, Washington, DC 20593-0001 or by calling (202) 267-2970.

Dated: March 23, 2002.
Stephen Miller,
Executive Secretary, Shipping Coordinating Committee, Department of State.

[FR Doc. 02-8056 Filed 4-2-02; 8:45 am]

BILLING CODE 4710-07-P